DEPARTMENT OF TRANSPORTATION

Federal Aviation Administration

14 CFR Part 71

[Docket No. FAA-2024-2559; Airspace Docket No. 24-AEA-11]

RIN 2120-AA66

Amendment of Class D and Class E Airspace; Morgantown, WV

AGENCY: Federal Aviation Administration (FAA), DOT.

ACTION: Notice of proposed rulemaking (NPRM).

SUMMARY: This action proposes to amend the Class D and Class E airspace at Morgantown Municipal Airport-Walter L. Bill Hart Field, Morgantown, WV. The FAA is proposing this action as the result of a biennial airspace review. This action will bring the airspace into compliance with FAA orders and support instrument flight rule (IFR) operations.

DATES: Comments must be received on or before August 14, 2025.

ADDRESSES: Send comments identified by FAA Docket No. FAA-2024-2559 and Airspace Docket No. 24-AEA-11 using any of the following methods:

* Federal eRulemaking Portal: Go to www.regulations.gov and follow the online instruction for sending your comments electronically.

* Mail: Send comments to Docket Operations, M-30; U.S. Department of Transportation, 1200 New Jersey Avenue SE, Room W12-140, West Building Ground Floor, Washington, DC 20590-0001.

* Hand Delivery or Courier: Take comments to Docket Operations in Room W12-140 of the West Building Ground Floor at 1200 New Jersey Avenue SE, Washington, DC, between 9 a.m. and 5 p.m., Monday through Friday, except Federal holidays.

* Fax: Fax comments to Docket Operations at (202) 493-2251.

Docket: Background documents or comments received may be read at www.regulations.gov at any time. Follow the online instructions for accessing the docket or go to Docket Operations in Room W12-140 of the West Building Ground Floor at 1200 New Jersey Avenue SE, Washington, DC, between 9 a.m. and 5 p.m., Monday through Friday, except Federal holidays.

FAA Order JO 7400.11J, Airspace Designations and Reporting Points, and subsequent amendments can be viewed online at www.faa.gov/air_traffic/publications/. You may also contact the Rules and Regulations Group, Office of Policy, Federal Aviation Administration, 600 Independence Avenue SW, Washington, DC 20597; telephone: (202) 267-8783.

FOR FURTHER INFORMATION CONTACT: Rebecca Shelby, Federal Aviation Administration, Operations Support Group, Central Service Center, 10101 Hillwood Parkway, Fort Worth, TX 76177; telephone (817) 222-5857.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it would amend the Class D airspace, the Class E surface area airspace, the Class E airspace area designated as an extension to the Class D and Class E surface airspace, and Class E airspace extending upward from 700 feet above the surface at Morgantown Municipal Airport-Walter L. Bill Hart Field, Morgantown, WV, to support IFR operations at this airport.

Comments Invited

The FAA invites interested persons to participate in this rulemaking by submitting written comments, data, or views. Comments are specifically invited on the overall regulatory, aeronautical, economic, environmental, and energy-related aspects of the proposal. The most helpful comments reference a specific portion of the proposal, explain the reason for any recommended change, and include supporting data. To ensure the docket does not contain duplicate comments, commenters should submit only one time if comments are filed electronically, or commenters should send only one copy of written comments if comments are filed in writing.

The FAA will file in the docket all comments it receives, as well as a report summarizing each substantive public contact with FAA personnel concerning this proposed rulemaking. Before acting on this proposal, the FAA will consider all comments it received on or before the closing date for comments. The FAA will consider comments filed after the comment period has closed if it is possible to do so without incurring expense or delay. The FAA may change this proposal in light of the comments it receives.

Privacy: In accordance with 5 U.S.C. & 553(c), DOT solicits comments from the public to better inform its rulemaking process. DOT posts these comments, without edit, including any personal information the commenter provides, to www.regulations.gov as described in the system of records notice (DOT/ALL-14FDMS), which can be reviewed at www.dot.gov/privacy.

Availability of Rulemaking Documents

An electronic copy of this document may be downloaded through the internet at www.regulations.gov. Recently published rulemaking documents can also be accessed through the FAA's web page at www.faa.gov/air_traffic/publications/airspace_amendments/.

You may review the public docket containing the proposal, any comments received, and any final disposition in person in the Dockets Office (see the ADDRESSES section for the address, phone number, and hours of operations). An informal docket may also be examined during normal business hours at the Federal Aviation Administration, Air Traffic Organization, Central Service Center, Operations Support Group, 10101 Hillwood Parkway, Fort Worth, TX 76177.

Incorporation by Reference

Class D and E airspace areas are published in paragraphs 5000, 6002, 6004, and 6005 of FAA Order JO 7400.11, Airspace Designations and Reporting Points, which is incorporated by reference in 14 CFR 71.1 on an annual basis. This document proposes to amend the current version of that order, FAA Order JO 7400.11J, dated July 31, 2024, and effective September 15, 2024. These updates would be published subsequently in the next update to FAA Order JO 7400.11. FAA Order JO 7400.11J, which lists Class A, B, C, D, and E airspace areas, air traffic service routes, and reporting points, is publicly available as listed in the ADDRESSES section of this document.

The Proposal

The FAA is proposing an amendment to 14 CFR part 71 in the following ways.

First, FAA proposes amending the Class D airspace: (1) to within a 4.4-mile (increased from a 4-mile) radius of the Morgantown Municipal Airport-Walter L. Bill Hart Field, WV; and (2) by replacing the term “Airport/Facility Directory” with “Chart Supplement” in the airspace legal description.

FAA also proposes amending the Class E surface airspace at Morgantown Municipal Airport-Walter L. Bill Hart Field within a 4.4-mile (increased from a 4-mile) radius of Morgantown Municipal Airport-Walter L. Bill Hart Field, WV; and by replacing the term “Airport/Facility Directory” with “Chart Supplement” in the airspace legal description.

Next FAA proposes amending the Class E surface airspace: (1) within a 4.4-mile (increased from a 4-mile) radius of Morgantown Municipal Airport-Walter L. Bill Hart Field, WV; and (2) by replacing the term Airport/Facility Directory” with “Chart Supplement” in the airspace legal description.

Additionally, FAA proposes amending the Class E airspace area designated as an extension to the Class D and Class E surface airspace at Morgantown Municipal Airport-Walter L. Bill Hart Field, Morgantown, WV, by: (1) removing the Morgantown VORTAC and all associated extensions from the airspace legal description; (2) adding an extension within 1 mile each side of the 352° bearing from the airport extending from the 4.4-mile radius to 7.9 miles north of the airport; (3) modifying an extensions 1 mile each side of the 352° bearing (previously 332°) from the Morgantown VORTAC from the 4.4-mile radius of the airport to 7.9-mile north of the airport; (4) adding an extension beginning at lat 39°34′55″ N, long 79°51′57″ W; to lat 39°31′17″ N, long 79°51′13″ W; then following the 7.9-mile radius from the airport clockwise to lat 39°33′13″ N, long 80°02′31″ W; to lat 39°36′09″ N, long 79°59′46″ W; then counter clockwise following the 4.4-mile radius to the point of origination; and (5) adding an extension 1 mile each side of the 172° bearing (previously radial) from the airport extending from the 4.4-mile radius of airport to 7.9 miles south of the airport.

Also, FAA proposes amending the Class E airspace extending upward from 700 ft above the surface: (1) to within a 14.8-mile radius (increased from a 6.6-mile) radius of Morgantown Municipal Airport-Walter L. Bill Hart Field; and (2) by removing the Morgantown VORTAC and associated extensions from the airspace legal description as they are no longer needed.

This action is the result of an airspace review conducted as part of the decommissioning of the Morgantown VORTAC and to support IFR operations at this airport.

Regulatory Notices and Analyses

The FAA has determined that this proposed regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11J, Airspace Designations and Reporting Points, dated July 31, 2024, and effective September 15, 2024, is amended as follows:

Paragraph 5000 Class D Airspace.

* * * * *

AEA WV D Morgantown, WV [Amended]

Morgantown Municipal Airport-Walter L. Bill Hart Field, WV

(Lat. 39°38′37″ N, long. 79°55′03″ W)

That airspace extending upward from the surface to and including 3,700 feet MSL within a 4.4-mile radius of Morgantown Municipal Airport-Walter L. Bill Hart Field. This Class D airspace area is effective during the specific dates and times established in advance by a Notice to Airmen. The effective dates and times will thereafter be continuously published in the Chart Supplement.

* * * * *

Paragraph 6002 Class E Airspace Areas Designated as Surface Areas.

* * * * *

AEA WV E2 Morgantown, WV [Amended]

Morgantown Municipal Airport-Walter L. Bill Hart Field, WV

(Lat. 39°38′37″ N, long. 79°55′03″ W)

Within a 4.4-mile radius of Morgantown Municipal Airport-Walter L. Bill Hart Field. This Class E airspace area is effective during the specific dates and times established in advance by a Notice to Airmen. The effective dates and times will thereafter be continuously published in the Chart Supplement.

* * * * *

Paragraph 6004 Class E Airspace Areas Designated as an Extension to a Class D or Class E Surface Area.

* * * * *

AEA WV E4 Morgantown, WV [Amended]

Morgantown Municipal Airport-Walter L. Bill Hart Field, WV

(Lat. 39°38′37″ N, long. 79°55′03″ W)

Morgantown VOR/DME, WV

(Lat. 39°33′24″ N, long. 79°51′37″ W)

That airspace extending upward from the surface within 1 mile on each side of the 352° bearing from airport; extending from the 4.4-mile radius of the airport to 7.9 miles north of the airport; and within 1 mile each side of the 352° bearing of the Morgantown VOR/DME extending from the 4.4-mile radius of the airport to 7.9-mile north of the airport; and extending from the 4.4-mile radius beginning at point lat 39°34′58″ N, long 79°51′53″ W; to lat 39°31′55″ N, long 79°51′15″ W; then clockwise following the 7.9 mile radius from the airport to lat 39°33′54″ N, long 80°02′16″ W; to lat 39°36′24″ N, long 79°59′58″ W; then following the 4.4-mile radius of the airport counter clockwise to the point of origination; and within 2 miles each side of the 172° bearing from the airport extending from the 4.4-mile radius of airport to 7.9 miles south of the airport.

* * * * *

Paragraph 6005 Class E Airspace Areas Extending Upward From 700 Feet or More Above the Surface of the Earth.

* * * * *

AEA WV E5 Morgantown, WV [Amended]

Morgantown Municipal Airport-Walter L. Bill Hart Field, WV

(Lat. 39°38′37″ N, long. 79°55′03″ W)

That airspace extending upward from 700 feet above the surface within a 14.8-mile radius of the Morgantown Municipal Airport-Walter L. Bill Hart Field.

* * * * *

Issued in Fort Worth, Texas, on June 26, 2025.
Dallas W. Lantz,
Acting Manager, Operations Support Group, ATO Central Service Centers.

[FR Doc. 2025-12055 Filed 6-27-25; 8:45 am]

BILLING CODE 4910-13-P